DEPARTMENT OF JUSTICE

Office of Justice Programs

[OJP (NIJ) Docket No. 1708]

Body Worn Camera Technologies Market Survey

AGENCY: National Institute of Justice (NIJ), Justice.

ACTION: Notice of request for information.

SUMMARY: The NIJ is soliciting information in support of the upcoming National Criminal Justice Technology Research, Test, and Evaluation Center (NIJ RT&E Center) “Market Survey of Body Worn Camera (BWC) Technologies.” This market survey, which will identify commercially available body worn camera systems, will be published by NIJ to assist purchasing agents or other representatives of law enforcement officials in their assessment of relevant information prior to making purchasing decisions. Comments with regard to the market survey itself, including which categories of information are appropriate for comparison, as well as promotional material (e.g., slick sheets) and print-quality images in electronic format, are also invited.

DATES: Responses to this request will be accepted through 11:59 p.m. Eastern Standard Time on May 31, 2016.

ADDRESSES: Responses to this request may be submitted electronically in the body of, or as an attachment to, an email sent to administrator@nijrtecenter.org with the required subject line “Body Worn Camera Federal Register Response.” Questions and responses may also be sent by mail (please allow additional time for processing) to the following address: National Criminal Justice Technology Research, Test and Evaluation Center, ATTN: Body Worn Camera Federal Register Response, Johns Hopkins University Applied Physics Laboratory, 11100 Johns Hopkins Road, Mail Stop 17-N444, Laurel, MD 20723-6099.

FOR FURTHER INFORMATION CONTACT: For more information on this request, please contact Vivian Hung (NIJ RT&E Center) by telephone at (240) 228-2286 or administrator@nijrtecenter.org. For more information on the NIJ RT&E Center, visit http://nij.gov/funding/awards/Pages/award-detail.aspx?award=2013-MU-CX-K111 and view the description, or contact Jack Harne (NIJ) by telephone at 202-616-2911 or at Jack.Harne@usdoj.gov. Please note that these are not toll-free telephone numbers.

SUPPLEMENTARY INFORMATION: Information Sought: Information is sought for an upcoming “Market Survey of Body Worn Camera (BWC) Technologies,” which seeks to identify commercially available body worn camera systems for law enforcement use.

Usage: This market survey will be published by NIJ to assist law enforcement agencies in their assessment of relevant information prior to making purchasing decisions.

Information Categories: Comments are invited with regard to the market survey, including which categories of information are appropriate for comparison, as well as promotional material (e.g., slick sheet) and print-quality photographs of the technology. At a minimum, the Center intends to include the following categories of information for each Body Worn Camera technology that may be of use to law enforcement officials:

1. Vendor Information

a. Name

b. Address and phone number of corporate office

c. Web site

d. Years your company has been in business

e. Number and types of customers (e.g., municipal, county, or state officers)

f. Location where technology is manufactured, assembled, or refurbished

2. Product Information—BWC

a. General

i. Name and model number

ii. Physical dimensions (height × width × depth, in inches) of device

iii. Weight (in ounces) of device

iv. Mounting options (e.g., head, chest, glasses, helmet, etc.)

1. Accessories needed for optional mounting locations

v. Whether the BWC is able to mount on a vehicle for dashboard applications

1. If so, any accessories needed

vi. LCD display (i.e., whether the BWC has a playback screen for on-person video viewing)

vii. Recording capacity (i.e., the memory storage capacity of the BWC)

viii. Operating conditions or limitations (e.g., temperature, humidity, precipitation, high wind, etc.)

b. Video and Optics

i. Maximum video resolution of the BWC (e.g., 640 × 480, 1080p)

ii. Field of view of the BWC (e.g., 75°, 120°)

iii. Lux rating of the BWC (i.e., minimum amount of light needed to produce an acceptable image)

iv. Whether the BWC has a night mode and in what format (e.g., low light, IR lens, etc.)

v. Recording speed of the BWC (e.g., 30 frames per second)

vi. Recording format of the BWC (e.g., MPEG-4, MOV)

vii. Recording time of the BWC under default resolution settings

viii. Whether the BWC captures still photos

ix. Whether the BWC embeds a time/date stamp in the recorded video

1. Whether there are any means to authenticate and validate the integrity of the time/date stamp

x. Whether the BWC has a pre-event record feature (i.e., a feature that includes a data buffer before the recorded event to show what triggered the recording)

1. If so, the time buffered and whether audio is recorded

xi. Whether the BWC possesses an event marking capability

xii. Whether the BWC has wireless capabilities to communicate with a computer or external DVR unit

c. Audio

i. Microphone feature

ii. Microphone sensitivity

iii. Audio format of the BWC (e.g., MP2, AAC)

iv. Whether there is a default police radio interface for the BWC

d. Data Upload

i. Single device vs. docking station for multiple video/audio upload

ii. Data transfer method (e.g., wire, wireless, removable media card, etc.)

iii. Manual vs. automatic uploading capabilities

e. Battery Information

i. Battery type used by the BWC and whether it is internal or removable

ii. Recording duration

iii. Battery standby duration

iv. Battery charge time

v. Battery lifetime until replacement needed

vi. Battery replacement procedure and where it must be done (e.g., field or factory), if applicable

vii. Availability of supplemental charger for emergency battery charging (e.g., hand crank, backup battery, external battery charger with USB, solar, etc.), if applicable

f. GPS

i. Whether the BWC possesses a GPS

1. If so, whether GPS coordinates are embedded in recorded video

ii. Alternative geolocation methods (e.g., using smartphone or Bluetooth information via cell towers)

g. Consumer Testing Results

i. Sturdiness/fragility

1. Drop test results

2. Dust intrusion/water resistance rating (IPX scale)

3. Ruggedized

4. Pressure/depth

5. Shock

6. Vibrations

ii. Whether the BWC has undergone environmental testing other than that listed above

1. If so, specify tests, pass/fail results, and ratings received

h. Safeguards

i. Privacy safeguards or features

1. Remote viewing

2. Remote activation/deactivation

3. Privacy masking (i.e., feature that allows blurring or completely blocking certain areas to protect personal privacy or sensitive information)

4. Redacting/editing capabilities

ii. Safeguards for cyber security, unintentional disassembly, jamming, or intentional damage

i. Regulatory

i. Regulatory and Compliance safety requirements (e.g., FCC approved) and/or any potential NIJ Technology Standards, if applicable

ii. Radiation safety standards (e.g., ANSI, ICRP, NCRP, EURATOM, etc.), if applicable

j. Warranty and Maintenance Plans

i. Length of warranty (in months) that comes standard with the system/device and the components that are covered

ii. Optional extended warranties available

1. Duration and cost of extended warranties

iii. Availability of extended maintenance plans

1. Duration and cost of extended maintenance plans

iv. Service contract costs

k. Auxiliary equipment (e.g., car chargers, emergency chargers, etc.)

i. Manufacturer suggested retail price (MSRP) for each piece of auxiliary equipment

l. MSRP without optional features, accessories or service plans

m. Manufacturer's estimated lifetime of the device

n. Other information or notes that are relevant to the system/device

3. Product Information—Software for Video Data Storage and Management

a. Data Management

i. Searching capabilities

ii. Categorizing capabilities (e.g., by law enforcement officer, location, incident, etc.)

iii. Tagging capabilities (i.e., a feature that allows users to add additional metadata, such as case number and case notes)

iv. Archiving and file retention capacity

v. Data saved on or offsite (e.g., cloud storage)

1. If saved offsite, specify data accessibility and storage costs

2. Video data storage capacity local vs. cloud

3. Capability to accommodate multiple site installations

vi. Export capabilities

1. If yes, whether there is a traceability feature that shows which user exported the data

vii. Redacting/editing capabilities

1. If redacted/edited, specify whether changes are permanent

viii. Support provided for chain-of-custody requirements

ix. Scalability for different organization size

x. User management and role-based access levels

b. Video Analytics

i. Whether there is companion software to analyze the video and audio data recorded by the BWCs

ii. Types of reports that are built into the software

1. Standard reports (e.g., distribution of number of hours of recording per officer in a given period)

2. Daily reports, historical reports, etc.

3. Audit reports that support chain-of-custody requirements

4. Customization of reports

iii. Facial recognition capabilities

iv. Weapons detection capabilities

v. Other analytical capabilities not mentioned above

c. Video Security and Authentication

i. Compatibility of the BWC video outputs with existing video management software for viewing and recording

ii. File integrity checks to ensure authenticity

iii. Data protection mechanism while in transit and during storage (e.g., SSL, encryption, password strength, etc.)

iv. Routine software updates, approximate frequency, and how it is updated (e.g., manual or automatic)

v. Cost of software updates

4. Usability/Training

a. Types of processes used to ensure usability of hardware and software products (e.g., requirements gathering, observation, task analysis, interaction design, usability testing, ergonomics, interoperability, etc.)

b. Types of data gathered from the user community (e.g., interviews, observations during hands-on training, survey, satisfaction surveys, repeat customers, etc.) to evaluate your products, and how often it is collected

c. Types of user-group meetings and frequency of their occurrence (e.g., dedicated face-to-face hosted meetings, in conjunction with established meetings such as those of the Body Work Video Steering Group and the Metropolitan Washington Council of Governments Police Technology Subcommittee, etc., interactive webinars).

d. Categories of problems reported to the vendor and estimated percentage of user community that experienced them within the last three (3) years

i. Resolution(s) to the problems identified above

e. Hours of technology support provided and location (e.g., telephone, web-based, or on site at agency), including any additional costs beyond the license/purchase

f. Hours and type of training provided (e.g., on-site, web-based, pre-recorded, play environment etc.)

5. Installation

a. Average time to install the complete BWC system and activate the first BWC device (in minutes, hours, or days)

Nancy Rodriguez,
Director, National Institute of Justice.

[FR Doc. 2016-09958 Filed 4-27-16; 8:45 am]

BILLING CODE 4410-18-P